DEPARTMENT OF AGRICULTURE

Commodity Credit Corporation

7 CFR Part 1412

RIN 0560-AH84

Direct and Counter-Cyclical Program and Average Crop Revenue Election Program

Correction

In rule document E8-30763 beginning on page 79284 in the issue of December 29, 2008, make the following correction:

§1412.53 [Corrected]

On page 79299, in the third column, §1412.53(b)(1)(ii)(K) should read:

(K) Other oilseeds-$9.30/cwt.

[FR Doc. Z8-30763 Filed 2-6-09; 8:45 am]

BILLING CODE 1505-01-D